DEPARTMENT OF ENERGY

Federal Energy Regulatory Commission

[Docket No. CP00-75-001]

Questar Pipeline Company; Notice of Tariff Filing

March 22, 2000.

Take notice that on March 20, 2000, Questar Pipeline Company (Questar) tendered for filing and acceptance, to be effective January 5, 2000, the following tariff sheets to Original Volume No. 3 of its FERC Gas Tariff.

Original Volume No.

Sixth Revised Sheet No. 2

Third Revised Sheet No. 9

Seventh Revised Sheet No. 10

First Revised Sheet No. 330

Questar filed an application under section 7(b) of the Natural Gas Act in Docket No. CP00-75-000, on January 27, 2000, as supplemented February 10, 2000, to abandon service under a certificated agreement between Questar and Northern Natural Gas Company (Northern). On January 5, 2000, Northern signed a letter indicating its agreement to the abandonment of this service. On March 10, 2000, the Commission issued an order granting permission for, and approval of, the abandonment to be effective January 5, 2000. Therefore, Questar filed to revise tariff sheets reflecting the cancellation of Rate Schedule X-28.

Questar states that a copy of this filing has been served upon Questar's customers, the Public Service Commission of Utah and the Public Service Commission of Wyoming.

Any person desiring to protest this filing should file a motion to intervene or protest with the Federal Energy Regulatory Commission, Room 1A, 888 First Street, N.E., Washington, D.C. 20426, in accordance with Section 385.211 and 385.214 of the Commission's Rules of Practice and Procedure (18 CFR 385.211 and 385.214). All such protests must be filed as provided in Section 154.210 of the Commission's Regulations. Protests will be considered by the Commission in determining the appropriate action to be taken, but will not serve to make protestants parties to the proceeding. Copies of this filing are on file with the Commission and are available for public inspection in the Public Reference Room. This filing may be viewed on the web at http://www.ferc.fed.us/online/rims.htm (call 202-208-2222 for assistance).

David P. Boergers,
Secretary.

[FR Doc. 00-7527 Filed 3-27-00; 8:45 am]

BILLING CODE 6717-01-M